DEPARTMENT OF TRANSPORTATION

Federal Aviation Administration

14 CFR Part 39

[Docket No. FAA-2007-27011; Directorate Identifier 2006-NM-175-AD]

RIN 2120-AA64

Airworthiness Directives; Airbus Model A318, A319, A320, and A321 Airplanes

AGENCY: Federal Aviation Administration (FAA), Department of Transportation (DOT).

ACTION: Supplemental notice of proposed rulemaking (NPRM); reopening of comment period.

SUMMARY: The FAA is revising an earlier NPRM for an airworthiness directive (AD) that applies to all Airbus Model A318, A319, A320, and A321 airplanes. The original NPRM would have superseded an existing AD that currently requires inspecting to determine the part number and serial number of the fuel tank boost pumps and, for airplanes with affected pumps, revising the airplane flight manual (AFM) and the FAA-approved maintenance program. The existing AD also provides for optional terminating action for compliance with the revisions to the AFM and the maintenance program. The original NPRM proposed to require modifying or replacing the fuel tank boost pumps, which would terminate the AFM limitations and the maintenance program revisions. The original NPRM resulted from a report that a fuel tank boost pump failed in service, due to a detached screw of the boost pump housing that created a short circuit between the stator and rotor of the boost pump motor and tripped a circuit breaker. This new action revises the original NPRM by excluding certain modified airplanes from the applicability, requiring the AFM/maintenance program revisions on additional airplanes, and requiring modification or replacement of additional fuel tank boost pumps. We are proposing this supplemental NPRM to prevent electrical arcing in the fuel tank boost pump motor, which, in the presence of a combustible air-fuel mixture in the pump, could result in an explosion and loss of the airplane.

DATES: We must receive comments on this supplemental NPRM by April 7, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Airbus, 1 Rond Point Maurice Bellonte, 31707 Blagnac Cedex, France.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Tim Dulin, Aerospace Engineer, International Branch, ANM-116, Transport Airplane Directorate, FAA, 1601 Lind Avenue, SW., Renton, Washington 98057-3356; telephone (425) 227-2141; fax (425) 227-1149.

SUPPLEMENTARY INFORMATION:

Comments Invited

We invite you to send any written relevant data, views, or arguments about this proposed AD. Send your comments to an address listed under the ADDRESSES section. Include “Docket No. FAA-2007-27011; Directorate Identifier 2006-NM-175-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

The FAA issued a notice of proposed rulemaking (NPRM) (the “original NPRM”) to amend 14 CFR part 39 to include an AD that supersedes AD 2006-12-02, amendment 39-14626 (71 FR 34814, June 16, 2006). The existing AD applies to all Airbus Model A318, A319, A320, and A321 airplanes. The original NPRM was published in the Federal Register on January 25, 2007 (72 FR 3371). The original NPRM proposed to retain the existing AD's requirements (identifying airplanes with certain fuel tank boost pumps and, for those airplanes, revising the airplane flight manual (AFM) and maintenance program, with optional terminating action). The original NPRM also proposed to require modifying or replacing the fuel tank boost pumps, which would terminate the AFM limitations and maintenance program revisions.

Actions Since Original NPRM Was Issued

Since we issued the original NPRM, the European Aviation Safety Agency (EASA), which is the Technical Agent for the Member States of the European Community, has notified us that the unsafe condition could exist on airplanes with any Type 8410 fuel pump having part number (P/N) 568-1-27202-001, -002, or -005. (The original NPRM would have applied only to airplanes with Type 8410 fuel pumps having P/N 568-1-27202-005 with serial number 6137 and subsequent.)

Relevant Service Information

Airbus has issued Service Bulletin A320-28-1159, dated January 8, 2007. The service bulletin describes procedures for determining the type and part number of the fuel pumps, and for modifying or replacing certain fuel pumps. Accomplishing the actions specified in the service information is intended to adequately address the unsafe condition. The EASA mandated the service information and issued airworthiness directive 2007-0218, dated August 10, 2007, to ensure the continued airworthiness of these airplanes in the European Union.

The service bulletin refers to EATON Service Bulletin 8410-28-05, dated October 2, 2006, as an additional source of service information for the actions associated with the modification.

Airbus has also issued TR 4.03.00/28, Issue 02, dated May 18, 2007, to add reference to certain AMM chapters, to clarify the note regarding inadvertent operation with less than 2,000 kg (4,500 lb) of fuel in the center tank, and to clarify the instructions for operation of the center tank fuel pumps. Paragraph (g)(2) of AD 2006-12-02 refers to Airbus Temporary Revision (TR) 4.03.00/28, dated May 4, 2006.

Comments

There were no comments on the original NPRM.

FAA's Determination and Proposed Requirements of the Supplemental NPRM

We have determined that the unsafe condition might exist on airplanes with any type 8410 fuel pumps having P/N 568-1-27202-001, -002, or -005, any serial number. It is therefore necessary to include airplanes with these fuel pumps among the group affected by the requirement to revise the AFM and maintenance program. We also find it necessary to mandate the modification/replacement of the affected fuel boost pumps specified in Airbus Service Bulletin A320-28-1159 for all affected airplanes. We have also limited the proposed applicability to exclude airplanes already modified in production.

The changes discussed above expand the scope of the original NPRM; we have therefore determined that it is necessary to reopen the comment period to provide additional opportunity for public comment on this supplemental NPRM.

Explanation of “Concurrent” Actions

Airbus Service Bulletin A320-28-1159 states that the actions specified in Airbus Service Bulletin A320-28-1153 (previously described in the original NPRM) must be done concurrently. Because the actions specified in both service bulletins accomplish the same result for airplanes equipped with Type 8410 fuel pumps having P/N 568-1-27202-005 with serial number 6137 and subsequent, this supplemental NPRM would consider a modification done before the effective date of the AD in accordance with Service Bulletin A320-28-1153 acceptable as terminating action for the proposed actions on airplanes equipped with Type 8410 fuel pumps having P/N 568-1-27202-005 with serial number 6137 and subsequent.

Costs of Compliance

The following table provides the estimated costs for U.S. operators to comply with this supplemental NPRM.

Estimated Costs
Action | Work hours | Average labor rate per hour | Parts | Cost per airplane | Number of U.S.-registered airplanes | Fleet cost
Identification of boost pumps | 1 | $80 | None | $80 | 670 | $53,600.
Revisions to AFM and maintenance program | 1 | 80 | None | 80 | Up to 670 | Up to $53,600.
Modifications | 3 | 80 | (*) | 240 | Up to 670 | Up to $160,800.
* Eaton states that pumps will qualify for free repair.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this supplemental NPRM and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14626 (71 FR 34814, June 16, 2006) and adding the following new airworthiness directive (AD):

Airbus: Docket No. FAA-2007-27011; Directorate Identifier 2006-NM-175-AD.

Comments Due Date

(a) The FAA must receive comments on this AD action by April 7, 2008.

Affected ADs

(b) This AD supersedes AD 2006-12-02.

Applicability

(c) This AD applies to Airbus Model A318, A319, A320, and A321 airplanes, certificated in any category, except those airplanes on which Airbus modification 36734 or 37508 has been incorporated in production.

Unsafe Condition

(d) This AD results from a report that a fuel tank boost pump failed in service, due to a detached screw of the boost pump housing that created a short circuit between the stator and rotor of the boost pump motor and tripped a circuit breaker. We are issuing this AD to prevent electrical arcing in the fuel tank boost pump motor, which, in the presence of a combustible air-fuel mixture in the pump, could result in an explosion and loss of the airplane.

Compliance

(e) You are responsible for having the actions required by this AD performed within the compliance times specified, unless the actions have already been done.

Restatement of Certain Requirements of AD 2006-12-02

Part and Serial Number Inspection

(f) Within 10 days after July 3, 2006 (the effective date of AD 2006-12-02), inspect to determine the part number (P/N) and serial number (S/N) of each fuel tank boost pump installed in the wing and center fuel tanks. A review of maintenance records may be performed instead of the required inspection if the P/N and S/N of the fuel boost pump can be conclusively determined from that review. One approved method for conducting this inspection or records review is specified in Airbus Service Bulletin A320-28-1152, dated May 5, 2006; or Revision 01, dated July 17, 2006.

Revisions to Airplane Flight Manual (AFM)/Maintenance Program: P/N 568-1-27202-005 With S/Ns 6137 and Subsequent

(g) For airplanes equipped with one or more Eaton Aerospace Limited (formerly FR-HITEMP Limited) fuel boost pumps, having P/N 568-1-27202-005 with S/N 6137 and subsequent: Prior to further flight after accomplishing the inspection required by paragraph (f) of this AD, do the actions specified in paragraphs (g)(1) and (g)(2), as applicable of this AD, until the modifications/replacements required by paragraph (j) of this AD have been done.

(1) Revise the Limitations section of the Airbus A318/A319/A320/A321 AFM and the FAA-approved maintenance program by incorporating the following. This may be accomplished by inserting copies of this AD into the AFM and the maintenance program.

Apply the following procedure at each fuel loading:

Refueling:

Before refueling, all pumps must be turned off, in order to prevent them from automatically starting during the refueling process.

Ground fuel transfer:

For all aircraft, do not start a fuel transfer from any wing tank, if it contains less than 700 kg (1,550 lb) of fuel.

For A318, A319, and A320 aircraft with a center tank, do not start a fuel transfer from the center tank, if it contains less than 2,000 kg (4,500 lb) of fuel.

If a tank has less than the required quantity, it is necessary to add fuel (via a transfer from another tank or refueling) to enable a transfer to take place.

Defueling:

For all aircraft, when defueling the wings, do not start the fuel pumps if the fuel quantity in the inner tank (wing tank for A321) is below 700 kg (1,550 lb). If the fuel on the aircraft is not sufficient to achieve the required fuel distribution, then transfer fuel or refuel the aircraft to obtain the required fuel quantity in the wing tank.

For A318, A319, and A320 aircraft with a center tank, when performing a pressure defuel of the center tank, make sure that the center tank contains at least 2,000 kg (4,500 lb) of fuel. If it has less than the required quantity, then transfer fuel to the center tank. Defuel the aircraft normally, and turn OFF the center tank pumps immediately after the FAULT light on the corresponding pushbutton-switch comes on.

(2) For all airplanes equipped with a center tank (modification 20024) excluding A321 models, revise the Limitations section of the AFM to incorporate the changes specified in Airbus Temporary Revision (TR) 4.03.00/28, dated May 4, 2006; or 4.03.00/28, Issue 02, dated May 18, 2007. This may be accomplished by inserting a copy of the TR into the AFM. When general revisions of the AFM have been issued that incorporate the revisions specified in the TR, the copy of the TR may be removed from the AFM, provided the relevant information in the general revision is identical to that in TR 4.03.00/28.

New Requirements of This AD

Part and Serial Number Inspection

(h) For all airplanes: Within 10 days after the effective date of this AD, inspect to determine the type and part number of each fuel tank boost pump installed in the wing and center fuel tanks. A review of maintenance records may be performed instead of the required inspection if the part number and serial number of the fuel boost pump can be conclusively determined from that review. One approved method for conducting this inspection or records review is specified in Airbus Service Bulletin A320-28-1159, dated January 8, 2007.

Revisions to AFM/Maintenance Program: P/Ns 568-1-27202-001 and -002; and P/N 568-1-27202-005 With S/Ns Below 6137

(i) For airplanes equipped with one or more Eaton Aerospace Limited (formerly FR-HITEMP Limited) fuel boost pumps, having P/N 568-1-27202-001 or 568-1-27202-002; or P/N 568-1-27202-005 with any serial number below 6137: Before further flight after accomplishing the inspection required by paragraph (h) of this AD, do the actions specified in paragraphs (g)(1) and (g)(2) of this AD, as applicable, until the modifications/replacements required by paragraph (j) of this AD have been done.

Terminating Action

(j) For airplanes equipped with one or more Eaton Aerospace Limited (formerly FR-HITEMP Limited) fuel boost pumps, having P/N 568-1-27202-001, -002, or -005: Within 5,000 flight hours or 18 months, whichever occurs first after the effective date of this AD, modify or replace affected fuel boost pumps in accordance with the Accomplishment Instructions of Airbus Service Bulletin A320-28-1159, dated January 8, 2007. Modification or replacement of all affected fuel tank boost pumps on an airplane terminates the requirements of this AD, and the limitations required by paragraph (g) of this AD may be removed from the AFM and the maintenance program for that airplane.

Note 1: For additional sources of service information for the fuel pump modification/replacement, Airbus Service Bulletin A320-28-1159 refers to EATON Service Bulletin 8410-28-05, dated October 2, 2006.

Credit for Actions Done Using Previous Service Information

(k) Modification of a fuel pump before the effective date of this AD in accordance with Airbus Service Bulletin A320-28-1153, dated May 5, 2006, is acceptable for compliance with the corresponding requirements of paragraph (j) of this AD, for that pump only.

Alternative Methods of Compliance (AMOCs)

(l)(1) The Manager, International Branch, ANM-116, Transport Airplane Directorate, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) AMOCs approved previously in accordance with AD 2006-12-02 are approved as AMOCs for the corresponding provisions of this AD.

Related Information

(m) European Aviation Safety Agency airworthiness directive 2007-0218, dated August 10, 2007, also addresses the subject of this AD.

Issued in Renton, Washington, on March 3, 2008.
Ali Bahrami,
Manager, Transport Airplane Directorate, Aircraft Certification Service.

[FR Doc. E8-5017 Filed 3-12-08; 8:45 am]

BILLING CODE 4910-13-P